DEPARTMENT OF HOUSING AND URBAN DEVELOPMENT

[Docket No. FR-5683-N-32]

Notice of Proposed Information Collection: Comment Request: HUD-Administered Small Cities Program Performance Assessment Report

AGENCY: Office of the Chief Information Officer, HUD.

ACTION: Notice.

SUMMARY: The proposed information collection requirement described below has been submitted to the Office of Management and Budget (OMB) for review, as required by the Paperwork Reduction Act. HUD is soliciting public comments on the subject proposal.

The information collected from grant recipients participating in the HUD administered CDBG program provides HUD with financial and physical development status of each activity funded. These reports are used to determine grant recipient performance. Agency form numbers, if applicable: The Housing and Community Development Act of 1974, as amended, requires grant recipients that receive CDBG funding to submit a Performance Assessment Report (PAR), Form 4052, on an annual basis to report on program progress; and such records as may be necessary to facilitate review and audit by HUD of the grantee's administration of CDBG funds (Section 104(e)(1)).

DATES: Comments Due Date: May 22, 2013.

ADDRESSES: Interested persons are invited to submit comments regarding this proposal. Comments should refer to the proposal by name and/or OMB approval Number (2506-0020) and should be sent to: HUD Desk Officer, Office of Management and Budget, New Executive Office Building, Washington, DC 20503; fax: 202-395-5806. Email: OIRA_Submission@omb.eop.gov fax: 202-395-5806.

FOR FURTHER INFORMATION CONTACT: Colette Pollard, Reports Management Officer, QDAM, Department of Housing and Urban Development, 451 Seventh Street SW., Washington, DC 20410; email Colette Pollard at Colette.Pollard@hud.gov. or telephone (202) 402-3400. This is not a toll-free number. Copies of available documents submitted to OMB may be obtained from Ms. Pollard.

SUPPLEMENTARY INFORMATION: This notice informs the public that HUD has submitted to OMB a request for approval of the Information collection described below. This notice is soliciting comments from members of the public and affecting agencies concerning the proposed collection of information to: (1) Evaluate whether the proposed collection of information is necessary for the proper performance of the functions of the agency, including whether the information will have practical utility; (2) Evaluate the accuracy of the agency's estimate of the burden of the proposed collection of information; (3) Enhance the quality, utility, and clarity of the information to be collected; and (4) Minimize the burden of the collection of information on those who are to respond; including through the use of appropriate automated collection techniques or other forms of information technology, e.g., permitting electronic submission of responses.

This notice also lists the following information:

Title of Proposed: HUD-Administered Small Cities Program Performance Assessment Report.

OMB Approval Number: 2506-0020.

Form Numbers: HUD-4052.

Description of the need for the information and proposed use: The information collected from grant recipients participating in the HUD administered CDBG program provides HUD with financial and physical development status of each activity funded. These reports are used to determine grant recipient performance. Agency form numbers, if applicable: The Housing and Community Development Act of 1974, as amended, requires grant recipients that receive CDBG funding to submit a Performance Assessment Report (PAR), Form 4052, on an annual basis to report on program progress; and such records as may be necessary to facilitate review and audit by HUD of the grantee's administration of CDBG funds (Section 104(e)(1)).

| Number of respondents | Annual responses | × | Hours per response | Burden hours
Reporting Burden | 40 | 1 |  | 4 | 160

Total Estimated Burden Hours: 160.

Status: Reinstatement without change of a previously approved collection.

Authority: Section 3507 of the Paperwork Reduction Act of 1995, 44 U.S.C. 35, as amended.

Dated: April 17, 2013.
Colette Pollard,
Department Reports Management Officer, Office of the Chief Information Officer.

[FR Doc. 2013-09385 Filed 4-19-13; 8:45 am]

BILLING CODE 4210-67-P